DEPARTMENT OF HOUSING AND URBAN DEVELOPMENT

[Docket No. FR-4730-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (this is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency (Area-MI), Bolliing Air Force Base, 112 Luke Avenue, Suite 104, Building 5683, Washington, DC 20332-8020; (202) 767-4184; GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: September 19, 2002.
John D. Garrity,
Director, Office of Special Needs Assistance Programs.

TITLE V, FEDERAL SURPLUS PROPERTY PROGRAM, FEDERAL REGISTER REPORT FOR 9/27/02

Suitable/Available Properties

Buildings (by State)

Louisiana

Federal Building

200 South Union Street

Opelousas Co: St. Landry Pr LA 70570—

Landholding Agency: GSA

Property Number: 54200230014

Status: Surplus

Comment: 41,886 sq. ft., most recent use—courthouse/post office/federal building, portion occupied

GSA Number: 7-G-LA-0566

Missouri

Columbia Federal Ofc. Bldg.

608 Cherry Street

Columbia Co: Boone MO 65201-7712

Landholding Agency: GSA

Property Number: 54200230016

Status: Surplus

Comment: 30,609 sq. ft., needs rehab, most recent use—office

GSA Number: 7-C-MO-633

Unsuitable Properties

Buildings (by State)

California

Bldg. PH11

Naval Base

Port Hueneme Co: Ventura CA 93042-5000

Landholding Agency: Navy

Property Number: 77200230045

Status: Unutilized

Reason: Extensive deterioration

Bldg. 37

Marine Corps Logistics Base

Barstow Co: San Bernardino CA 92311—

Landholding Agency: Navy

Property Number: 77200230046

Status: Unutilized

Reason: Extensive deterioration

Bldg. 115

Marine Corps Logistics Base

Barstow Co: San Bernardino CA 92311—

Landholding Agency: Navy

Property Number: 77200230047

Status: Unutilized

Reason: Extensive deterioration

Bldg. 117

Marine Corps Logistics Base

Barstow Co: San Bernardino CA 92311—

Landholding Agency: Navy

Property Number: 77200230048

Status: Unutilized

Reason: Extensive deterioration

Bldg. 557

Marine Corps Logistics Base

Barstow Co: San Bernardino CA 92311—

Landholding Agency: Navy

Property Number: 77200230049

Status: Unutilized

Reason: Extensive deterioration

Hawaii

13 Administrative Facilities

Johnston Atoll Airfield

Honolulu Co: HI

Landholding Agency: Air Force

Property Number: 18200230019

Status: Unutilized

Reasons: Within 2000 ft. of flammable or explosive material, Within airport runway clear zone

7 Bunkers

Johnston Atoll Airfield

Honolulu Co: HI-

Landholding Agency: Air Force

Property Number: 18200230020

Status: Unutilized

Reasons: Within 2000 ft. of flammable or explosive material within airport runway clear zone

64 Storage Igloos

Johnston Atoll Airfield

Honolulu Co: HI-

Landholding Agency: Air Force

Property Number: 18200230021

Status: Unutilized

Reasons: Within 2000 ft. of flammable or explosive material within airport runway clear zone

38 Quarters

Johnston Atoll Airfield

Honolulu Co: HI-

Landholding Agency: Air Force

Property Number: 18200230022

Status: Unutilized

Reasons: Within 2000 ft. of flammable or explosive material within airport runway clear zone

108 Misc. Facilities

Johnston Atoll Airfield

Honolulu Co: HI-

Landholding Agency: Air Force

Property Number: 18200230023

Status: Unutilized

Reasons: Within 2000 ft. of flammable or explosive material within airport runway clear zone

5 Outer Island Bldgs.

Johnston Atoll Airfield

Honolulu Co: HI-

Landholding Agency: Air Force

Property Number: 18200230024

Status: Unutilized

Reasons: Within 2000 ft. of flammable or explosive material within airport runway clear zone

37 Shops

Johnston Atoll Airfield

Honolulu Co: HI-

Landholding Agency: Air Force

Property Number: 18200230025

Status: Unutilized

Reasons: Within 2000 ft. of flammable or explosive material within airport runway clear zone

46 Warehouses

Johnston Atoll Airfield

Honolulu Co: HI-

Landholding Agency: Air Force

Property Number: 18200230026

Status: Unutilized

Reasons: Within 2000 ft. of flammable or explosive material within airport runway clear zone

Maryland

Stillpond Station

Coast Guard Station

Stillpond Neck Road

Worton Co: Kent MD 21678-

Landholding Agency: GSA

Property Number: 54200230015

Status: Excess

Reason: Within 2000 ft. of flammable or explosive material

GSA Number: 4-U-MD-607

Michigan

Bldg. 550

Selfridge Outer Marker Site

Selfridge ANGB Co: Macomb MI 48045-5295

Landholding Agency: Air Force

Property Number: 18200230017

Status: Unutilized

Reason: Extensive deterioration

Facilities 90004, 911146

Selfridge Outer Marker Site

Selfridge ANGB Co: Macomb MI 48045-5295

Landholding Agency: Air Force

Property Number: 18200230018

Status: Unutilized

Reason: Extensive deterioration

Bldg. 3

Alpena CRTC

Alpena Co: MI 49707-

Landholding Agency: Air Force

Property Number: 18200230027

Status: Unutilized

Reason: Secured Area

Bldgs 10, 15

Alpena CRTC

Alpena Co: MI 49707-

Landholding Agency: Air Force

Property Number: 18200230028

Status: Unutilized

Reason: Secured Area

Bldgs 31, 33, 38

Alpena CRTC

Alpena Co: MI 49707-

Landholding Agency: Air Force

Property Number: 18200230029

Status: Unutilized

Reason: Secured Area

Bldg. 44

Alpena CRTC

Alpena Co: MI 49707-

Landholding Agency: Air Force

Property Number: 18200230030

Status: Unutilized

Reason: Secured Area

Bldg. 53

Alpena CRTC

Alpena Co: MI 49707-

Landholding Agency: Air Force

Property Number: 18200230031

Status: Unutilized

Reason: Secured Area

Bldg. 219

Alpena CRTC

Alpena Co: MI 49707-

Landholding Agency: Air Force

Property Number: 18200230032

Status: Unutilized

Reason: Secured Area

Bldg. 302, 304, 305

Alpena CRTC

Alpena Co: MI 49707-

Landholding Agency: Air Force

Property Number: 18200230033

Status: Unutilized

Reason: Secured Area

Bldg. 321

Alpena CRTC

Alpena Co: MI 49707-

Landholding Agency: Air Force

Property Number: 18200230034

Status: Unutilized

Reason: Secured Area

Bldgs. 330-333

Alpena CRTC

Alpena Co: MI 49707-

Landholding Agency: Air Force

Property Number: 18200230035

Status: Unutilized

Reason: Secured Area

Bldgs. 402, 414

Alpena CRTC

Alpena Co: MI 49707-

Landholding Agency: Air Force

Property Number: 18200230036

Status: Unutilized

Reason: Secured Area

Bldg. 4020

Alpena CRTC

Alpena Co: MI 49707-

Landholding Agency: Air Force

Property Number: 18200230037

Status: Unutilized

Reason: Secured Area

Mississippi

Bldg. QQ

Naval Station

Pascagoula Co: Jackson MS 39595-

Landholding Agency: Navy

Property Number: 77200230050

Status: Unutilized

Reasons: Secured Area, Extensive deterioration

Puerto Rico

Bldg. 90

U.S. Naval Base

Roosevelt Roads

Ceiba Co: PR 00735-

Landholding Agency: Navy

Property Number: 77200230051

Status: Unutilized

Reasons: Secured Area, Extensive deterioration

Bldg. 371

U.S. Naval Base

Roosevelt Roads

Ceiba Co: PR 00735-

Landholding Agency: Navy

Property Number: 77200230052

Status: Unutilized

Reasons: Within 2000 ft. of flammable or explosive material Secured Area, Extensive deterioration

Bldg. 803

U.S. Naval Base

Roosevelt Roads

Ceiba Co: PR 00735-

Landholding Agency: Navy

Property Number: 77200230053

Status: Unutilized

Reasons: Within 2000 ft. of flammable or explosive material Secured Area, Extensive deterioration

Bldg. 1028

U.S. Naval Base

Roosevelt Roads

Ceiba Co: PR 00735-

Landholding Agency: Navy

Property Number: 77200230054

Status: Unutilized

Reasons: Secured Area, Extensive deterioration

Bldg. 1583

U.S. Naval Base

Roosevelt Roads

Ceiba Co: PR 00735-

Landholding Agency: Navy

Property Number: 77200230055

Status: Unutilized

Reasons: Secured Area, Extensive deterioration

Tennessee

Bldg. 5

Navy Surface Warfare

Memphis Co: Shelby TN 38113-

Landholding Agency: Navy

Property Number: 77200230056

Status: Unutilized

Reason: Secured Area

Bldg. 11

Navy Surface Warfare

Memphis Co: Shelby TN 38113-

Landholding Agency: Navy

Property Number: 77200230057

Status: Unutilized

Reason: Secured Area

Washington

Bldg. 530

Naval Station

Bremerton Co: WA 98314-5020

Landholding Agency: Navy

Property Number: 77200230058

Status: Excess

Reasons: Within 2000 ft. of flammable or explosive material, Secured Area

Bldg. 878

Naval Station

Bremerton Co: WA 98314-5020

Landholding Agency: Navy

Property Number: 77200230059

Status: Excess

Reasons: Within 2000 ft. of flammable or explosive material, Secured Area

Bldg. 904

Naval Station

Fort Lawton

Everett Co: Snohomish WA 98207-5001

Landholding Agency: Navy

Property Number: 77200230060

Status: Excess

Reason: Extensive deterioration

[FR Doc. 02-24397 Filed 9-26-02; 8:45 am]

BILLING CODE 4210-29-M